DEPARTMENT OF HOUSING AND URBAN DEVELOPMENT

[Docket No. FR-5820-FA-01]

Announcement of Funding Awards Capital Fund Emergency Safety and Security Grants Fiscal Year 2014

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department. The public was notified of the availability of the Emergency Safety and Security funds with PIH Notice 2014-09 (Notice), which was issued May 12, 2014. Additionally, Public Housing Authorities (PHAs) were notified of funds availability via electronic mail and a posting to the HUD Web site. PHAs were funded in accordance with the terms of the Notice. This announcement contains the consolidated names and addresses of this year's award recipients under the Capital Fund Emergency Safety and Security grant program.

FOR FURTHER INFORMATION CONTACT: For questions concerning the Emergency Safety and Security awards, contact Jeffrey Riddel, Director, Office of Capital Improvements, Office of Public Housing, Department of Housing and Urban Development, 451 7th Street SW., Room 4130, Washington, DC 20410, telephone (202) 708-1640. Hearing or speech-impaired individuals may access this number via TTY by calling the toll-free Federal Relay Service at (800) 877-8339.

SUPPLEMENTARY INFORMATION: The Capital Fund Emergency Safety and Security program provides grants to PHAs for physical safety and security measures necessary to address crime and drug-related emergencies. More specifically, in accordance with Section 9 of the United States Housing Act of 1937 (42 U.S.C. 1437g) (1937 Act), and Public Law 113-76 (Department of Housing and Urban Development Appropriations Act, 2014) (FY 2014 appropriations), Congress appropriated funding to provide assistance to “public housing agencies for emergency capital needs including safety and security measures necessary to address crime and drug-related activity as well as needs resulting from unforeseen or unpreventable emergencies and natural disasters excluding Presidentially declared disasters occurring in fiscal year [2014].”

The FY 2014 awards in this Announcement were evaluated for funding based on the criteria in the Notice. These awards are funded from the set-aside in the FY 2014 appropriations.

In accordance with Section 102 (a)(4)(C) of the Department of Housing and Urban Development Reform Act of 1989 (103 Stat.1987, 42 U.S.C. 3545), the Department is publishing the names, addresses, and amounts of the 13 awards made under the set aside in Appendix A to this document.

Dated: September 30, 2014.
Jemine A. Bryon,
Acting Assistant Secretary for Public and Indian Housing.

Appendix A

Capital Fund Emergency Safety and Security Program FY 2014 Awards

Name/address of applicant | Amount funded | Project description
Housing Authority of the City of Decatur, 100 Wilson Street NE., Decatur, AL 35602 | $250,000 | Security Cameras and Lighting.
Housing Authority of Evergreen, 203 Rabb Drive, Evergreen, AL 36401-3342 | 250,000 | Security Cameras, Lighting, and Fencing.
East Hartford Housing Authority, 546 Burnside Avenue, East Hartford, CT 06108-3511 | 250,000 | Security Cameras and Lighting.
Housing Authority of the City of Miami Beach, 200 Alton Road, Miami Beach, FL 33139-6742 | 250,000 | Security Cameras, Lighting, and Fencing.
LaGrange Housing Authority, 201 Chatham Street, LaGrange, GA 30240-5313 | 187,000 | Security Cameras.
Fort Wayne Housing Authority, 7315 South Hanna St., P.O. Box 13489, Fort Wayne, IN 46869-3489 | 248,718 | Security Cameras and Access Control Systems.
Housing Authority of Flemingsburg, 142 Circle Drive, Flemingsburg, KY 41041-1442 | 175,519 | Security Cameras and Security Window Screens.
Housing Authority of Floyd County, 402 John M. Stumbo Drive, Langley, KY 41645 | 241,573 | Security Cameras, Fencing, and Security Entry Doors.
Yazoo City Housing Authority, 121 Lindsey Dawn Dr., Yazoo City, MS 39194-2912 | 250,000 | Security Cameras and Fencing.
Greensboro Housing Authority, 450 North Church St, Greensboro, NC 27401-2001 | 247,874 | Security Cameras and Lighting.
Chillicothe Metropolitan Housing Authority, 178 West 4th St., Chillicothe, OH 45601-3219 | 250,000 | Security Cameras and Lighting.
Richmond Redevelopment and Housing Authority, 901 Chamberlayne Parkway, Richmond, VA 23220-2309 | 250,000 | Lighting.
Newport News Redevelopment and Housing Authority, P.O. 797, Newport News, VA 23607-0077 | 245,000 | Security Cameras and Lighting.

[FR Doc. 2014-24436 Filed 10-10-14; 8:45 am]

BILLING CODE 4210-67-P